DEPARTMENT OF TRANSPORTATION

Federal Aviation Administration

14 CFR Part 39

[Docket No. FAA-2015-0080; Directorate Identifier 2012-NM-189-AD]

RIN 2120-AA64

Airworthiness Directives; ATR—GIE Avions de Transport Régional Airplanes

AGENCY: Federal Aviation Administration (FAA), DOT.

ACTION: Notice of proposed rulemaking (NPRM).

SUMMARY: We propose to adopt a new airworthiness directive (AD) for all ATR—GIE Avions de Transport Régional Model ATR42 airplanes. This proposed AD was prompted by several reports of a cracked floor beam at frame (FR) 26, and of discrepancies in certain wing inspection tasks in maintenance documents that could lead to errors in scheduling inspection intervals of structurally significant items (SSIs). This proposed AD would require repetitive inspections of certain floor beams and revision of the maintenance or inspection program to include inspections of several areas of the wings. We are proposing this AD to detect and correct any cracking of the floor beam at FR 26 and several areas of the wings, which could lead to reduced structural integrity of the airplane.

DATES: We must receive comments on this proposed AD by March 12, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact ATR—GIE Avions de Transport Régional, 1, Allée Pierre Nadot, 31712 Blagnac Cedex, France; telephone +33 (0) 5 62 21 62 21; fax +33 (0) 5 62 21 67 18; email continued.airworthiness@atr.fr; Internet http://www.aerochain.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-0080; or in person at the Docket Management Facility between 9 a.m. and 5 p.m., Monday through Friday, except Federal holidays. The AD docket contains this proposed AD, the regulatory evaluation, any comments received, and other information. The street address for the Docket Operations office (telephone 800-647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Comments Invited

We invite you to send any written relevant data, views, or arguments about this proposed AD. Send your comments to an address listed under the ADDRESSES section. Include “Docket No. FAA-2015-0080; Directorate Identifier 2012-NM-189-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Union, has issued EASA Airworthiness Directive 2012-0193, dated September 25, 2012 (referred to after this as the Mandatory Continuing Airworthiness Information, or “the MCAI”), to correct an unsafe condition for all ATR—GIE Avions de Transport Régional Model ATR42 airplanes. The MCAI states:

Floor beam at Frame 26: During maintenance checks, the floor beam at frame (FR) 26 was found cracked on several ATR 42 aeroplanes.

This condition, if not detected and corrected, could lead to reduce the structural integrity of the aeroplane. A new Structural Significant Items (SSI) task will be introduced in the next revision of the ATR42 Time Limits document in order to address this issue.

MRBR/MPD discrepancy on Wings item: A discrepancy has been noticed between the Maintenance Review Board Report (MRBR)/Maintenance Planning Document (MPD) and the Time Limits document. ATR modifications 02805 and 08039 were erroneously stated similar in the MRBR/MPD, inducing misleading applicability of the SSI tasks depending upon the document used and leading operators to miss several inspections, as evidenced during a recent review.

Following the structural investigation, new inspection thresholds have been calculated and will be introduced in the next revisions of the ATR Time Limits documents (Revision 8 and Revision 9, as applicable to the aeroplane models) and MRBR/MPD documents.

For the reasons described above, this [EASA] AD requires repetitive inspections of the FR26 floor beam, and of several areas of the wings, as defined in the ATR42 Time Limits document and, depending on findings, the accomplishment of applicable corrective action(s).

You may examine the MCAI in the AD docket on the Internet at http://www.regulations.gov by searching for and locating Docket No. FAA-2015-0080.

Related Service Information

Avions de Transport Régional (ATR) has issued Job Instruction Card 535100 DVI 10097, “DVI of FR26 Floor Beam Around Cut-outs for Cooling & Hydrau Ducts,” dated February 9, 2012 (for Model ATR42-200, -300, -320, and -500 airplanes). The service information describes procedures for a detailed inspection for damage (cracks, corrosion, dents, scratches, scores and abrasions) of the floor beam at FR 26, on the left-hand (LH) and right-hand (RH) sides, and, for certain inspection findings, contacting the manufacturer for repair instructions. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Difference Between This Proposed AD and the MCAI

Although the MCAI specifies doing repetitive actions (e.g., structurally significant item (SSI) inspections) in accordance with certain tasks in the maintenance or inspection program, this NPRM proposes to revise the maintenance or inspection program, as applicable, in accordance with a method approved by the Manager, International Branch, ANM-116, Transport Airplane Directorate, FAA. By requiring a revision of the maintenance or inspection program, as applicable, instead of requiring individual repetitive inspections, operators are only required to record AD compliance once when the maintenance or inspection program is revised instead of every time an inspection is accomplished. The repetitive inspections specified in the airworthiness limitations must be complied with in accordance with 14 CFR 91.403(c).

Also, the MCAI specifies that, if there are findings from the inspections, then corrective action must be accomplished in accordance with ATR maintenance documentation. But this proposed AD does not include that requirement because operators of U.S.-registered airplanes are required by general airworthiness and operational regulations to use FAA-acceptable methods when performing maintenance. We consider those methods to be adequate to address any corrective action necessitated by the findings of airworthiness limitations section (ALS) inspections specified in the maintenance or inspection program revision required by this proposed AD.

Costs of Compliance

We estimate that this proposed AD affects 31 airplanes of U.S. registry.

We estimate that it would take about 4 work-hours per product to comply with the basic requirements of this proposed AD. The average labor rate is $85 per work-hour. Based on these figures, we estimate the cost of this proposed AD on U.S. operators to be $10,540, per inspection cycle, or $340, per inspection cycle, per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

ATR—GIE Avions de Transport Régional: Docket No. FAA-2015-0080; Directorate Identifier 2012-NM-189-AD.

(a) Comments Due Date

We must receive comments by March 12, 2015.

(b) Affected ADs

None.

(c) Applicability

This AD applies to all ATR—GIE Avions de Transport Régional (ATR) Model ATR42-200, -300, -320, and -500 airplanes, certificated in any category.

(d) Subject

Air Transport Association (ATA) of America Codes 53, Fuselage; and 57, Wings.

(e) Reason

This AD was prompted by a report of a cracked floor beam at frame (FR) 26 on several Model ATR42 airplanes, and of discrepancies in certain wing inspection tasks in maintenance documents that could lead to errors in scheduling inspection intervals of structurally significant items (SSIs). We are issuing this AD to detect and correct any cracking of the floor beam at FR 26 and several areas of the wings, which could lead to reduced structural integrity of the airplane.

(f) Compliance

Comply with this AD within the compliance times specified, unless already done.

(g) Repetitive Inspections and Corrective Actions for FR 26 Floor Beam for All Model ATR42 Airplanes

(1) For all Model ATR42 airplanes: At the later of the compliance times specified in paragraphs (g)(1)(i) and (g)(1)(ii) of this AD, and thereafter at intervals not to exceed 12,000 flight cycles, accomplish a detailed inspection for damage (cracks, corrosion, dents, scratches, scores and abrasions) of the floor beam at FR 26, on the left-hand (LH) and right-hand (RH) sides, in accordance with the instructions of ATR Job Instruction Card 535100 DVI 10097, “DVI of FR26 Floor Beam Around Cut-outs for Cooling & Hydrau Ducts,” dated February 9, 2012 (for Model ATR42-200, -300, -320, and -500 airplanes).

(i) Before the accumulation of 24,000 total flight cycles.

(ii) Within 5,000 flight hours or 24 months, whichever occurs first, after the effective date of this AD.

(2) If, during any inspection required by paragraph (g)(1) of this AD, any damage (corrosion or scratches that are greater than allowed, cracks, dents, scores and abrasions) is found: Before further flight, repair in accordance with a method approved by the Manager, International Branch, ANM-116, Transport Airplane Directorate, FAA; or the European Aviation Safety Agency (EASA); or ATR—GIE Avions de Transport Régional's EASA Design Organization Approval (DOA).

(h) SSI Tasks for Certain Model ATR42 Airplanes

For Model ATR42 airplanes on which ATR modification 02805 was not embodied in production: Within 6 months after the effective date of this AD, revise the maintenance or inspection program, as applicable, by incorporating the SSI tasks identified in table 1 to paragraph (h) of this AD, in accordance with a method approved by the Manager, International Branch, ANM-116, Transport Airplane Directorate, FAA.

Table 1 to Paragraph (h) of this AD—Applicable SSI Tasks and Compliance Times
For Model— | Use SSI Task— | At this initial time— | And repeat at intervals not to exceed—
ATR-42-500 airplanes | 572301-1 or -3, as applicable | Before 45,000 total flight cycles or within 6 months after the effective date of this AD, whichever occurs later | 7,300 flight cycles.
ATR-42-500 airplanes | 572305 | Before 46,000 total flight cycles or within 6 months after the effective date of this AD, whichever occurs later | 3,900 flight cycles.
ATR42-200, -300, and -320 airplanes | 572301-1, -3, -4, or -5, as applicable | Before 45,000 total flight cycles or within 6 months after the effective date of this AD, whichever occurs later | 7,300 flight cycles.
ATR42-200, -300, and -320 airplanes | 572305-1 | Before 46,000 total flight cycles or within 6 months after the effective date of this AD, whichever occurs later | 3,900 flight cycles.
ATR42-200, -300, and -320 airplanes | 572409 | Before 42,000 total flight cycles or within 6 months after the effective date of this AD, whichever occurs later | 9,000 flight cycles.
ATR42-200, -300, and -320 airplanes | 572410, 572411, 572412, 572413, 572414, and 572415 | Before 43,000 total flight cycles or within 6 months after the effective date of this AD, whichever occurs later | 10,000 flight cycles.
ATR42-200, -300, and -320 airplanes | 572416 and 572417 | Before 44,000 total flight cycles or within 6 months after the effective date of this AD, whichever occurs later | 7,300 flight cycles.

Note 1 to paragraph (h) of this AD: For ATR42-500 airplanes, additional guidance for the maintenance or inspection program revision may be found in the ATR ATR 42-400/-500 Maintenance Review Board Report, Revision 13, dated November 30, 2011.

Note 2 to paragraph (h) of this AD: For ATR42-200, -300, and -320 airplanes, additional guidance for the maintenance or inspection program revision may be found in the ATR ATR 42-200/-300/-320 Maintenance Review Board Report, Revision 13, dated November 30, 2011.

(i) No Alternative Actions or Intervals

After the maintenance or inspection program has been revised as required by paragraph (h) of this AD, no alternative actions (e.g., inspections) or intervals may be used unless the actions or intervals are approved as an alternative method of compliance (AMOC) in accordance with the procedures specified in paragraph (j)(1) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or ATR—GIE Avions de Transport Régional's EASA DOA. If approved by the DOA, the approval must include the DOA-authorized signature.

(k) Related Information

(1) Refer to Mandatory Continuing Airworthiness Information (MCAI) EASA Airworthiness Directive 2012-0193, dated September 25, 2012, for related information. This MCAI may be found in the AD docket on the Internet at http://www.regulations.gov by searching for and locating Docket No. FAA-2015-0080.

(2) For service information identified in this AD, contact ATR—GIE Avions de Transport Régional, 1, Allée Pierre Nadot, 31712 Blagnac Cedex, France; telephone +33 (0) 5 62 21 62 21; fax +33 (0) 5 62 21 67 18; email continued.airworthiness@atr.fr; Internet http://www.aerochain.com. You may view this service information at the FAA, Transport Airplane Directorate, 1601 Lind Avenue SW., Renton, WA. For information on the availability of this material at the FAA, call 425-227-1221.

Issued in Renton, Washington, on January 15, 2015.
John P. Piccola, Jr.,
Acting Manager, Transport Airplane Directorate, Aircraft Certification Service.

[FR Doc. 2015-01218 Filed 1-23-15; 8:45 am]

BILLING CODE 4910-13-P